CONSUMER PRODUCT SAFETY COMMISSION

Sunshine Act Meetings

Time and Date: Wednesday, August 11, 2010; 11 a.m.-12 Noon.

Place: Hearing Room 420, Bethesda Towers, 4330 East West Highway, Bethesda, Maryland.

Status: Closed to the Public.

Matters to be Considered: Compliance Status Report.

The Commission staff will brief the Commission on the status of compliance matters.

For a recorded message containing the latest agenda information, call (301) 504-7948.

Contact Person for More Information: Todd A. Stevenson, Office of the Secretary, U.S. Consumer Product Safety Commission, 4330 East West Highway, Bethesda, MD 20814, (301) 504-7923.

Dated: August 5, 2010.
Alberta Mills,
Acting Secretary.

[FR Doc. 2010-19729 Filed 8-5-10; 4:15 pm]

BILLING CODE 6355-01-P